DEPARTMENT OF TRANSPORTATION

Federal Aviation Administration

Notice of Availability of Categorical Exclusion and Record of Decision for the Proposed West Flow Area Navigation Standard Instrument Departure Procedures at Phoenix Sky Harbor International

AGENCY: Federal Aviation Administration, (FAA), Department of Transportation.

ACTION: Notice of availability.

SUMMARY: The FAA, Western Service Area is issuing this notice to advise the public of the availability of the Categorical Exclusion/Record of Decision (CATEX/ROD) for the Proposed West Flow Area Navigation (RNAV) Standard Instrument Departure (SID) Procedures at Phoenix Sky Harbor International Airport in Phoenix, AZ. The FAA reviewed the action and determined it to be categorically excluded from further environmental documentation.

FOR FURTHER INFORMATION CONTACT: Marina Landis, Federal Aviation Administration, Operations Support Group, Western Service Center, 2200 S 216th St., Des Moines, WA 98198-6547 or (206) 231-2238 or https://www.faa.gov/nextgen/nextgen_near_you/community_involvement/phx/.

SUPPLEMENTARY INFORMATION:

Background

The FAA is proposing to amend the west flow RNAV SID procedures from Runways 25 Left, 25 Right and 26 at Phoenix Sky Harbor International Airport, Phoenix, Arizona. The proposed amendments are consistent with the resolution of the parties as stipulated in the Memorandum Regarding Implementation of the Court Order, jointly negotiated following the court's August 29, 2017, Order in City of Phoenix, Arizona v. Huerta, 869 F.3d 963 (D.C. Circuit 2017). In response to the Court's decision, the FAA and the Petitioners worked together on the best way to implement the Court's order and agreed on an approach to address the Petitioners' concerns while ensuring that aircraft operations remain safe and efficient. The FAA, in consultation with the City of Phoenix, developed the Proposed Action to comply with the Court's Order and to meet the requirements set forth in the Memorandum. The parties agreed to a two-step process for departures for the western RNAV routes. The first step (Step One) of the process would provide interim noise relief to the Petitioners by approximating the western departure routes that were in place before the September 2014 RNAV procedures. Step Two, which is not part of the current proposal, is described in the Memorandum.

Step One was further broken down into Step 1A and Step 1B.The FAA implemented Step 1A on March 29, 2018, to provide more immediate noise relief to the Petitioners. Step 1B is the subject of the current action and would involve replacing the departure routes in Step 1A and implementing nine new RNAV SID procedures. Step 1B is an independent proposed action consistent with Section 5 of the Memorandum and would complete Step One.

Right of Appeal: This CATEX/ROD constitutes a final order of the FAA Administrator and is subject to exclusive judicial review under 49 U.S.C. 46110 by the U.S. Circuit Court of Appeals for the District of Columbia or the U.S. Circuit Court of Appeals for the circuit in which the person contesting the decision resides or has its principal place of business. Any party having substantial interest in this order may apply for review of the decision by filing a petition for review in the appropriate U.S. Court of Appeals no later than 60 days after the order is issued in accordance with the provisions of 49 U.S.C. 46110.

Issued in Des Moines, WA, on May 16, 2018.
B.G. Chew,
Acting Manager, Operations Support Group, Western Service Center, Air Traffic Organization.

[FR Doc. 2018-10950 Filed 5-21-18; 8:45 am]

BILLING CODE 4910-13-P